DEPARTMENT OF COMMERCE

International Trade Administration

A-570-848

Freshwater Crawfish Tail Meat from the People's Republic of China: Notice of Court Decision Not In Harmony with Final Results of Administrative Review

AGENCY: Import Administration, International Trade Administration, Department of Commerce.

SUMMARY: On April 3, 2006, the United States Court of International Trade (“Court”) sustained the final remand determination made by the Department of Commerce (“the Department”) pursuant to the Court's remand of the final results of the administrative review of freshwater crawfish tail meat from the People's Republic of China. See Hontex Enterprises Inc., D/B/A Louisiana Packing Co. v. United States, Consol. Ct. No. 02-00223, Slip Op. 06-42 (Ct. Int'l Trade April 3, 2006) (“Hontex Judgment”). This case arises out of the Department's Freshwater Crawfish Tail Meat from the People's Republic of China: Final Results of Administrative Antidumping Duty and New Shipper Reviews, and Final Rescission of New Shipper Review, 65 FR 20948 (April 19, 2000)(“Final Results”). The final judgment in this case was not in harmony with the Department's April, 2000 Final Results.

EFFECTIVE DATE: April 14, 2006.

FOR FURTHER INFORMATION CONTACT: Scot Fullerton or Christopher D. Riker, AD/CVD Operations, Office 9, Import Administration, International Trade Administration, U.S. Department of Commerce, 14th Street and Constitution Avenue, NW., Washington DC 20230; telephone: (202) 482-1386 or (202) 482-3441, respectively.

SUPPLEMENTARY INFORMATION: In Hontex Enterprises, Inc., d/b/a/ Louisiana Packing Co. v. U.S., 387 F. Supp.2d 1353 (CIT 2005) (Hontex v. U.S.), the Court remanded this matter to the Department to either: (1)(a) find that Mr. Lee did not control Huaiyin Foreign Trading Company (5) (“HFTC5”) within the meaning of 19 U.S.C. Section 1677(33)(F) & G, and (b) find that Ningbo Nanlian Frozen Foods Company (“NNL”) were not affiliated, and c) find that NNL and HFTC5 should not be collapsed and given a single antidumping margin, and (d) find that NNL is entitled to a separate company-specific antidumping margin and calculate that margin using the verified information on the record; or (2)(a) re-open the record in order to gather additional evidence of Mr. Lee's control relationship with HFTC5 during the period of review, and (b) place such additional information on the record, and c) conduct an analysis that takes into account any such new evidence, including the temporal aspect of any such new evidence.

In response, the Department found that (a) Mr. Lee did not control HFTC5, (b) HFTC5 and NNL were not affiliated, c) HFTC5 and NNL should not be collapsed and given a single antidumping margin, and (d) NNL is entitled to a separate company-specific antidumping margin. Also in accordance with the Court's remand, we calculated a separate company-specific antidumping margin for NNL based on verified information on the record.

On April 3, 2006, the Court sustained the Department's remand redetermination. See Hontex Judgment.

Timken Notice

In its decision in Timken Co. v. United States, 893 F.2d 337, 341 (Fed. Cir. 1990) (“Timken”), the United States Court of Appeals for the Federal Circuit held that, pursuant to section 516A(e) of the Tariff Act of 1930, as amended (“the Act”), the Department must publish a notice of a court decision that is not “in harmony” with a Department determination, and must suspend liquidation of entries pending a “conclusive” court decision. The Court's decision in Hontex Judgment on April 3, 2006, constitutes a final, “conclusive,” decision that the court findings are not in harmony with the Department's final results in the 97/98 administrative review of freshwater crawfish tail meat. This notice is published in fulfillment of the publication requirements of Timken. Accordingly, the Department will continue the suspension of liquidation of the subject merchandise pending the expiration of the period of appeal, or, if appealed, upon a final and conclusive court decision. In the event that the CIT's ruling is not appealed, or if appealed and upheld by the Court of Appeals for the Federal Circuit, the Department will instruct U.S. Customs and Border Protection to revise cash deposit rates and liquidate relevant entries covering the subject merchandise effective the date of publication of this notice in the Federal Register.

This notice is issued and published in accordance with section 516A(c)(1) of the Act.

Dated: April 11, 2006.
Joseph A. Spetrini,
Acting Assistant Secretary for Import Administration.

[FR Doc. 06-3639 Filed 4-13-06; 8:45 am]

Billing Code: 3510-DS-S